DEPARTMENT OF COMMERCE

International Trade Administration

[A-570-853]

Bulk Aspirin from the People's Republic of China: Notice of Partial Rescission of Antidumping Duty Administrative Review

AGENCY: Import Administration, International Trade Administration, Department of Commerce.

ACTION: Notice of Partial Rescission of Third Administrative Review.

SUMMARY: On August 22, 2003, the Department of Commerce (“the Department”) published a notice of initiation of an administrative review of the antidumping duty order on bulk aspirin from the People's Republic of China (68 FR 50750). This review covers sales of bulk aspirin to the United States during the period July 1, 2002 through June 30, 2003. Based on a request for withdrawal of the review with respect to Jilin Henghe Pharmaceutical Company Ltd. (“Jilin”), we are rescinding, in part, the third administrative review.

EFFECTIVE DATE: February 3, 2004.

FOR FURTHER INFORMATION CONTACT: Julie H. Santoboni, Office 1, AD/CVD Enforcement, Import Administration, International Trade Administration, U.S. Department of Commerce, 14th Street and Constitution Avenue NW., Washington DC 20230; telephone (202) 482-4194.

SUPPLEMENTARY INFORMATION:

Background

On July 2, 2003, the Department published in the Federal Register a notice of the opportunity to request an administrative review in the above-cited segment of the antidumping duty proceeding (see 68 FR 39511). We received a timely filed request for review of Jilin and Shandong Xinhua Pharmaceutical Factory, Ltd. (“Shandong”) from Rhodia, Inc. (“Rhodia”), the petitioner in this case. On August 22, 2003, we initiated an administrative review of Jilin and Shandong (68 FR 50750).

On January 5, 2004, Rhodia withdrew its request for review of Jilin. Although this withdrawal was received by the Department after the regulatory deadline of November 20, 2003, 19 CFR 351.213(d)(1) permits the Department to extend the deadline if “it is reasonable to do so.” Because the petitioner was the only party to request the review, we find it is reasonable to extend the deadline to withdraw the review request.

Partial Rescission of Antidumping Administrative Review

In accordance with 19 CFR 351.213(d)(1), we are rescinding the administrative review with respect to Jilin.

Shandong remains a respondent in this administrative review.

Assessment

The Department will instruct U.S. Customs and Border Protection (“CBP”) to assess antidumping duties on all appropriate entries. For Jilin, from July 1, 2002 through September 29, 2002, antidumping duties shall be assessed at rates equal to the cash deposit of estimated antidumping duties required at the time of entry, or withdrawal from warehouse, for consumption, in accordance with 19 CFR 351.212(c)(1)(i).

Pursuant to a final court decision, which excluded Jilin from the order effective September 30, 2002, entries of subject merchandise from Jilin, entered or withdrawn from the warehouse on or after September 30, 2002, have been liquidated without regard to antidumping duties. See Bulk Aspirin From the People's Republic of China: Notice of Amended Final Determination and Amended Order Pursuant to Final Court Decision, 68 FR 75208 (December 30, 2003)(“Amended Order”).

The Department will issue appropriate assessment instructions directly to the CBP within 15 days of publication of this notice.

Cash Deposit Rates

As mentioned above in the assessment section of this notice, because Jilin is excluded from the order effective September 30, 2002 (see Amended Order), no cash deposit is required from Jilin.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i) of the Tariff Act of 1930, as amended and 19 CFR 351.213(d)(4).

Dated: January 28, 2004.
James J. Jochum,
Assistant Secretary for Import Administration.

[FR Doc. 04-2166 Filed 2-2-04; 8:45 am]

BILLING CODE 3510-DS-S